DEPARTMENT OF HEALTH AND HUMAN SERVICES

Public Health Service

National Institutes of Health

National Institute of Environmental Health Sciences; Amended Notice of a Meeting of the Scientific Advisory Committee on Alternative Toxicological Methods: Availability of Video Casting and a Public Telephone Call-In Line

This notice announces the availability of video casting and a public telephone call-in line for the October 20, 2004 meeting of the Scientific Advisory Committee on Alternative Toxicological Methods (SACATM). The meeting will be held at the U.S. Environmental Protection Agency (EPA), 109 T.W. Alexander Drive, Research Triangle Park, NC (Building C, Room C111, Auditorium sections A. and B). Additional information about this SACATM meeting was published in a previous Federal Register notice (September 8 (Volume 69, Number 173) pages 54298—54299).

The National Toxicology Program (NTP) is making plans to video cast the SACATM meeting through the Internet at http://www.niehs.nih.gov/external/video.htm. The following information is required for telephone access:

• USA Toll Free Number: 800-857-1738 (required).

• Passcode: 50250 (required).

• Leader Name: Kristina Thayer (required).

• Press *6 to mute and unmute.

The NTP has reserved 50 telephone lines for this call and access availability will be on a first come first served basis. Comments from the phone will be solicited during public comment periods identified on the agenda (see below for revised draft agenda). Telephone comments should not exceed two minutes in length and each organization is allowed only one oral slot (in person or by the telephone) per agenda topic. Calls will be taken as time permits and at the discretion of the SACATM chairperson. Every effort will be made to accommodate callers, but the total time allotted for comments received via the telephone will be 30 minutes for the entire meeting. Priority will be given to callers who register to make public comments in advance of the meeting. Registration to present oral public comments or to submit written comments can be completed online at the SACATM meeting site (http://ntp-server.niehs.nih.gov/index.cfm?objectid=26F6530D-BA27-9B29-FAE1657CB6DB907D). Details about the meeting, Internet access and telephone call-in are also available at this site. The video casting and public telephone call-in are new remote access options for SACATM, thus their technical quality can not be guaranteed.

Revised Draft Agenda

Scientific Advisory Committee on Alternative Toxicological Methods October 20, 2004

U.S. Environmental Protection Agency, Building C, Room C111 (Auditorium sections A. and B), 109 T.W. Alexander Drive, Research Triangle Park, NC 27709. (A photo ID is required to access the EPA campus.)

8:30 a.m.

• Call to Order and Introductions

• Welcome and Remarks from the National Institute of Environmental Health Sciences (NIEHS) and the National Toxicology Program (NTP)

• Welcome and Remarks from the Interagency Coordinating Committee on the Validation of Alternative Methods (ICCVAM) Chair

• Update on Activities of the National Toxicology Program (NTP) Interagency Center for the Evaluation of Alternative Toxicological Methods (NICEATM) and ICCVAM

• Update on the European Center for the Validation of Alternative Methods (ECVAM) Workshop Recommendations and Validation Studies

• Evaluation of the Under-Prediction Rate for the in vivo Rabbit Dermal Irritation Test

○ Public Comment

• Preliminary Evaluation of the Under-Prediction Rate for the in vivo Rabbit Ocular Irritation Test

○ Public Comment

12 p.m.: Lunch Break (on your own, the EPA campus has a cafeteria)

1 p.m.

• ICCVAM Nominations

○ Public Comment

• NTP Roadmap

○ Public Comment

• ICCVAM Perspectives on Proposed OECD Draft guidance Document on the Validation and International Acceptance of New or Updated Test methods for Hazard Assessment (Guidance Document 34)

• General Discussion

4:30 p.m.: Adjourn

Dated: October 8, 2004.
Samuel Wilson,
Deputy Director, National Institute of Environmental Health Sciences.

[FR Doc. 04-23559 Filed 10-20-04; 8:45 am]

BILLING CODE 4140-01-P